DEPARTMENT OF TRANSPORTATION

Federal Aviation Administration

32nd Meeting: RTCA Special Committee 206, Aeronautical Information and Meteorological Data Link Services

AGENCY: Federal Aviation Administration (FAA), U.S. Department of Transportation (DOT).

ACTION: Meeting Notice of RTCA Special Committee 206, Aeronautical Information and Meteorological Data Link Services.

SUMMARY: The FAA is issuing this notice to advise the public of the thirty-second meeting of the RTCA Special Committee 206, Aeronautical Information and Meteorological Data Link Services.

DATES: The meeting will be held February 11-15, 2013 from 8:30 a.m.-5:00 p.m. (except Monday).

ADDRESSES: The meeting will be held at Delta Airlines Headquarters, 1030 Delta Boulevard, Atlanta, GA 30354.

FOR FURTHER INFORMATION CONTACT: The RTCA Secretariat, 1150 18th Street NW., Suite 910, Washington, DC 20036, or by telephone at (202) 330-0652/(202) 833-9339, fax at (202) 833-9434, or Web site at http://www.rtca.org. In addition, Sophie Bousquet may be contacted directly at email sbouquet@rtca.org or (202) 330-0663.

SUPPLEMENTARY INFORMATION: Pursuant to section 10(a) (2) of the Federal Advisory Committee Act (Pub. L. 92-463, 5 U.S.C., App.), notice is hereby given for a meeting of Special Committee 206. The agenda will include the following:

Monday, February 11, 2013

9:00 a.m. Opening Plenary

• Chairmen's remarks and host's comments

• Attendee Introductions

• Approval of previous meeting minutes

• Review and approve meeting agenda

• Action item review

• TOR change

• Sub-Group status and week's plan

10:30 a.m. Break

10:45 a.m. Sub-groups meetings

Tuesday, February 12

8:30 a.m.-3:00 p.m. Sub-groups meetings

Wednesday, February 13

8:30 a.m. Sub-groups meetings

3:00 p.m. Tour of Delta's OCC

Thursday, February 14

8:30 a.m.-3:00 p.m. Sub-groups meetings

Friday, February 15

8:30 a.m. Closing Plenary

• Sub-groups reports

• Industry Coordination

• Tables in Appendix C of DO-340

• Result of SC 217 ISRA

• Action Item Review

• Future meeting plans and dates

• Other business

12:30 p.m. Adjourn (no lunch break)

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on December 19, 2012.
Richard F. Gonzalez,
Management Analyst, Business Operations Group, ANG-A12, Federal Aviation Administration.

[FR Doc. 2013-01378 Filed 1-23-13; 8:45 am]

BILLING CODE 4910-13-P